DEPARTMENT OF TRANSPORTATION

Office of the Secretary

Applications of Aerodynamics, Inc., for Issuance of New Certificate Authority

AGENCY: Department of Transportation.

ACTION: Notice of Order to Show Cause Order Dockets OST-01-10985 and OST-01-10986.

SUMMARY: The Department of Transportation is directing all interested persons to show cause why it should not issue orders finding Aerodynamics, Inc., fit, willing, and able and awarding it certificates of public convenience and necessity to engage in interstate and foreign charter air transportation of persons, property and mail as a certificated air carrier.

Responses: Objections and answers to objections should be filed in Dockets OST-01-10985 and OST-01-10986 and addressed to the Department of Transportation Dockets, PL-401, 400 Seventh Street, SW., Washington, DC 20590, and should be served on all persons listed in Attachment A to the order. Persons wishing to file objections should do so no later than May 29, 2002.

FOR FURTHER INFORMATION CONTACT: Mr. James Lawyer, Air Carrier Fitness Division (X-56, Room 6401), U.S. Department of Transportation, 400 Seventh Street, SW., Washington, DC 20590, (202) 366-1064.

Dated: May 16, 2002.
Read C. Van De Water,
Assistant Secretary for Aviation and International Affairs.

[FR Doc. 02-12735 Filed 5-21-02; 8:45 am]

BILLING CODE 4910-62-P